DEPARTMENT OF HEALTH AND HUMAN SERVICES

Administration for Children and Families

Proposed Information Collection Activity; Comment Request

Proposed Projects:

Title: Child Support Enforcement Program Expenditure Report (Form OCSE-396A) and the Child Support Enforcement Program Collection Report (Form OCSE-34A).

OMB No.: 0970-0181.

Description: State and Tribal agencies administering the Child Support Enforcement Program under Title IV-D of the Social Security Act are required to provide information each fiscal quarter to the Office of Child Support Enforcement (OCSE) concerning administrative expenditures and the receipt and disposition of child support payments from non-custodial parents. State title IV-D agencies report quarterly expenditures and collections using Forms OCSE-396A and OCSE-34A, respectively. Tribal title IV-D agencies report quarterly expenditures using Form SF-269, as prescribed in program regulations, and formerly reported quarterly collections using only a modified version of Form OCSE-34A. The information collected on these reporting forms is used to compute quarterly grant awards to States and Tribes, the annual incentive payments to States and provides valuable information on program finances. This information is also included in a published annual statistical and financial report, available to the general public.

Under Public Law 111-5, the “American Recovery and Reinvestment Act of 2009” (ARRA), enacted in February 2009, the availability of Federal funding to State administered child support enforcement programs was substantially increased with a change in methodology of calculating these funds. We propose to formally incorporate this necessary revision into the quarterly expenditure report and to update the existing quarterly collection report to enable the same version of that form to be used by both State and Tribal IV-D agencies. We also propose to review other data entry elements and the accompanying instructions in both data collection forms to assure that the financial information requested from States and Tribes remains relevant and will assure that OCSE collects the information needed in the most efficient format feasible.

Respondents: State agencies (including the District of Columbia, Puerto Rico, Guam and the Virgin Islands) administering the Child Support Enforcement Program. Tribal agencies with approved plans to administer the Child Support Enforcement Program.

Annual Burden Estimates
Instrument | Number of respondents | Number of responses per respondent | Average burden hours per response | Total burden hours
OCSE-396A | 54 | 4 | 8 | 1,728
OCSE-34A | 100 | 4 | 8 | 3,200

Estimated Total Annual Burden Hours: 4,928.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: March 3, 2010.
Robert Sargis,
Reports Clearance Officer.

[FR Doc. 2010-4895 Filed 3-8-10; 8:45 am]

BILLING CODE 4184-01-P